DEPARTMENT OF AGRICULTURE

Animal and Plant Health Inspection Service

7 CFR Part 301

[Docket No. 04-106-3]

Oriental Fruit Fly; Removal of Quarantined Area

AGENCY: Animal and Plant Health Inspection Service, USDA.

ACTION: Affirmation of interim rule as final rule.

SUMMARY: We are adopting as a final rule, without change, an interim rule that amended the Oriental fruit fly regulations by removing a portion of Los Angeles County, CA, from the list of quarantined areas and removing restrictions on the interstate movement of regulated articles from that area. The interim rule was necessary to relieve restrictions that were no longer needed to prevent the spread of the Oriental fruit fly into noninfested areas of the United States.

DATES: Effective Date: The interim rule became effective on March 1, 2005.

FOR FURTHER INFORMATION CONTACT: Mr. Wayne D. Burnett, National Fruit Fly Program Manager, PPQ, APHIS, 4700 River Road Unit 134, Riverdale, MD 20737-1236; (301) 734-4387.

SUPPLEMENTARY INFORMATION:

Background

In an interim rule effective on November 9, 2004, and published in the Federal Register on November 16, 2004 (69 FR 67041-67042, Docket No. 04-106-1), we amended the Oriental fruit fly regulations contained in 7 CFR 301.93 through 301.93-10 (referred to below as the regulations) by adding a portion of Los Angeles County, CA, to the list of quarantined areas in § 301.93-3(c) and restricting the interstate movement of regulated articles from that area. The November 2004 interim rule was necessary to prevent the spread of Oriental fruit fly into noninfested areas of the United States.

Comments on the interim rule were required to be received on or before January 18, 2005. We received one comment by that date, from a private citizen. The commenter questioned why an infestation of Oriental fruit fly had been allowed to occur, but did not offer any comments on the action taken in the interim rule; therefore, we are making no changes in response to this comment.

In a second interim rule effective March 1, 2005, and published in the Federal Register on March 7, 2005 (70 FR 10861-10862, Docket No. 04-106-2), we amended the Oriental fruit fly regulations by removing the portion of Los Angeles County, CA, from the list of quarantined areas and removing restrictions on the interstate movement of regulated articles from that area. We took this action based on trapping surveys conducted by inspectors of California State and County agencies that showed that the Oriental fruit fly had been eradicated from the quarantined portion of Los Angeles County, CA.

Comments on the interim rule were required to be received on or before May 6, 2005. We did not receive any comments. Therefore, for the reasons given in the interim rule, we are adopting the interim rule as a final rule.

This action also affirms the information contained in the interim rules concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

Accordingly, we are amending 7 CFR part 301 as follows:

PART 301—DOMESTIC QUARANTINE NOTICES

Accordingly, we are adopting as a final rule, without change, the interim rule that amended 7 CFR part 301 and that was published at 70 FR 10861-10862 on March 7, 2005.

Done in Washington, DC, this 10th day of February 2006.
Kevin Shea,
Acting Administrator, Animal and Plant Health Inspection Service.

[FR Doc. 06-1446 Filed 2-15-06; 8:45 am]

BILLING CODE 3410-34-P